DEPARTMENT OF TRANSPORTATION

Federal Transit Administration

[FTA Docket No. FTA-2011-0011]

Agency Information Collection Activity Under OMB Review

AGENCY: Federal Transit Administration, DOT.

ACTION: Notice of request for comments.

SUMMARY: In accordance with the Paperwork Reduction Act of 1995 (44 U.S.C. 3501 et seq.), this notice announces that the Information Collection Request (ICR) abstracted below is forwarded to the Office of Management and Budget OMB) for review and comments. A Federal Register Notice with a 60-day comment period soliciting comments on the following information collection was published on December 20, 2010 (Citation 75 FR 79438). No comments were received from that notice.

DATES: Comments must be submitted before March 28, 2011. A comment to OMB is most effective if OMB receives it within 30 days of publication.

FOR FURTHER INFORMATION CONTACT: Sylvia L. Marion, Office of Administration, Office of Management Planning, (202) 366-6680.

SUPPLEMENTARY INFORMATION: Title: Charter Service Operations (OMB Number: 2132-0543)

Abstract: 49 U.S.C. 5323(d) requires all applicants for financial assistance from FTA to enter into a charter bus agreement with the Secretary of Transportation (delegated to the Administrator of FTA in 49 CFR 1.51(a)). 49 U.S.C. 5323(d) provides protections for private intercity charter bus operators from unfair competition by FTA recipients. 49 U.S.C. 5302(a)(10) as interpreted by the Comptroller General permits FTA recipients, but does not state that recipients have a right, to provide charter bus service with FTA-funded facilities and equipment only if it is incidental to the provision of mass transportation service. The Safe, Accountable, Flexible, Efficient Transportation Equity Act: A Legacy for Users (SAFETEA-LU), Public Law 109-59, 119 Stat. 1144 (2005), amended 49 U.S.C. 5323(d) with respect to remedies, provides that:

“In addition to any remedy specified in the agreement, the Secretary shall bar a recipient or an operator from receiving federal transit assistance in an amount the Secretary considers appropriate if the Secretary finds a pattern of violations of the agreement.”

In addition, the Joint Explanatory Statement of the Committee of Conference, for Section 3023(d), “Condition on Charter Bus Transportation Service” of the Safe, Accountable, Flexible, Efficient Transportation Equity Act: A Legacy for Users (SAFETEA-LU), Public Law 109-59, 119 Stat. 1144 (2005) directed FTA to “initiate a negotiated rulemaking seeking public comment on the regulations implementing section 5323(d).”

In response to the direction contained in the Conference Committee Report, FTA established a Federal Advisory Committee to develop, through negotiated rulemaking procedures, recommendations for improving the regulation regarding charter bus services. On January 14, 2008, FTA published its final rule (73 FR 2326) amending the regulations which govern the provision of charter service. These regulations are implemented at 49 CFR Part 604. Changes to Part 604 include clarification of the existing requirements, a newly defined “charter service,” replacement of the “willing and able” process for the electronic registration of private charter providers, and the establishment of more detailed complaint, hearing, and appeal procedures.

Section 604.4 requires all applicants for federal financial assistance under 49 U.S.C. 5301 et seq., and 23 U.S.C. 103(e)(4), 142(a), and 142(c) to enter into a “Charter Service Agreement,” contained in the Certifications and Assurances for FTA Assistance Programs, unless exempt under 49 CFR 604.2 or otherwise falls under an exception in 49 CFR Part 604. The Certifications and Assurances become a part of the Grant Agreement or Cooperative Agreement for federal assistance upon the recipient's receipt of federal funds.

The January 14, 2008, amendments to 49 CFR Part 604 added Section 604.14, which requires that a recipient give email notification to registered charter providers in the recipient's geographic service area upon receiving a request for charter service that the recipient is interested in providing pursuant to § 604.9. In addition, 49 CFR 604.12 requires that the recipient submit the records of all instances that it has provided charter service permitted under one or more of the exceptions under Subpart B of Part 604 to the charter registration Web site 30 days after the end of each calendar quarter. The recipient must also maintain the required notices and records electronically for three years from the date of the service or lease of FTA funded equipment and/or drivers.

In order for a private charter operator to become a registered charter provider, the private charter operator must register on FTA's charter registration Web site, which can be found at http://www.fta.dot.gov/laws/leg_reg_179.html. Under 49 CFR 604.13, a registered charter provider must update its information on the charter registration Web site at least once every two years.

The January 14, 2008, final rule also added 49 CFR 604.7, allowing recipients to provide charter service to qualified human service organizations (QHSO) under limited circumstances. QHSOs seeking to receive free or reduced rate services from recipients and do not receive federal funding under programs listed in Appendix A to Part 604 must register on FTA's charter registration Web site (49 CFR 604.15(a)).

Estimated Total Annual Burden: 1,819 hours.

ADDRESSES: All written comments must refer to the docket number that appears at the top of this document and be submitted to the Office of Information and Regulatory Affairs, Office of Management and Budget, 725 17th Street, NW., Washington, DC 20503, Attention: FTA Desk Officer.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued On: February 17, 2011.
Ann M. Linnertz,
Associate Administrator for Administration.

[FR Doc. 2011-4204 Filed 2-24-11; 8:45 am]

BILLING CODE P